DEPARTMENT OF VETERANS AFFAIRS

Veterans Advisory Committee on Environmental Hazards, Notice of Charter Renewal

This gives notice under the Federal Advisory Committee Act (Public Law 92-463) of October 6, 1972, that the Veterans' Advisory Committee on Environmental Hazards has been renewed for a 2-year period beginning July 5, 2000, through July 5, 2002.

Dated: July 5, 2000.
By direction of the Secretary.
Marvin R. Eason,
Committee Management Officer.

[FR Doc. 00-17900 Filed 7-13-00; 8:45 am]

BILLING CODE 8320-01-M